COMMISSION ON CIVIL RIGHTS

Agenda and Notice of Public Meeting of the Arkansas Advisory Committee

Notice is hereby given, pursuant to the provisions of the rules and regulations of the U.S. Commission on Civil Rights, that a conference call of the Arkansas Advisory Committee to the Commission will convene at 1:30 p.m. and adjourn at 3 p.m. (CTD) on Thursday May 15, 2003. The purpose of the conference call is to plan future projects and have a discussion of the hate crime bill that recently failed.

This conference call is available to the public through the following call-in number: 1-888-532-5130, access code: 16753157. Any interested member of the public may call this number and listen to the meeting. Callers can expect to incur charges for calls not initiated using the supplied call-in number or made over wireless lines, and the Commission will not refund any incurred charges. Callers will incur no charge for calls using the call-in number over landline connections. Persons with hearing impairments may also follow the proceedings by first calling the Federal Relay Service at 1-800-977-8339 and providing the Service with the conference call number and access code.

To ensure that the Commission secures an appropriate number of lines for the public, persons are asked to register by contacting Farella E. Robinson, of the Central Regional Office, 913-551-1400 (TDD 913-551-1414), by 4 p.m. on Wednesday May 14, 2003.

The meeting will be conducted pursuant to the provisions of the rules and regulations of the Commission.

Dated at Washington, DC, April 28, 2003.
Ivy L. Davis,
Chief, Regional Programs Coordination Unit.

[FR Doc. 03-11884 Filed 5-12-03; 8:45 am]

BILLING CODE 6335-01-P